DEPARTMENT OF COMMERCE

National Oceanic and Atmospheric Administration

RIN: 0648-XO49

Caribbean Fishery Management Council; Public Meetings

AGENCY: National Marine Fisheries Service (NMFS), National Oceanic and Atmospheric Administration (NOAA), Commerce.

ACTION: Notice of public meetings.

SUMMARY: The Caribbean Fishery Management Council will hold public meetings to obtain input from fishers, the general public, and the local agencies representatives on the Regulatory Amendment to the Fishery Management Plan for the Reef Fish Fishery of Puerto Rico and the United States Virgin Islands Concerning Bajo de Sico Seasonal Closure including a Regulatory Impact Review and an Environmental Assessment.

DATES: The meetings will be held on the following dates and locations:

•April 22, 2009, Frenchman's Reef and Morning Star Hotel, 5 Estate Bakkeroe, St. Thomas, USVI

•April 23, 2009, Buccaneer Hotel, Estate Shoys, Christtiansted, St. Croix, USVI

•April 27, 2009, Mayaguez Resort and Casino, Rd. 104, Km. 0.3, Mayaguez, Puerto Rico

All meetings will be held from 7 p.m. to 10 p.m.

FOR FURTHER INFORMATION CONTACT: Caribbean Fishery Management Council, 268 Munoz Rivera Avenue, Suite 1108, San Juan, Puerto Rico 00918-2577; telephone: (787) 766-5926.

SUPPLEMENTARY INFORMATION: The Caribbean Fishery Management Council will hold public meetings to receive public input on the Regulatory Amendment to the Fishery Management Plan for the Reef Fish Fishery of Puerto Rico and the United States Virgin Islands concerning Bajo de Sico seasonal closure including a Regulatory Impact Review and an Environmental Assessment. The purpose of this regulatory amendment is to protect the snapper and grouper spawning aggregations and the associated habitat from directed fishing pressure to achieve a more natural sex ratio, age and size structure, while minimizing adverse social and economic effects. Currently, the area is closed to all fishing activity from December 1 through the end of February, each year. In addition, fishing with pot, trap, bottom longlines, gillnets or trammel nets is prohibited year-round.

The proposed management alternatives are:

Action 1: Extend the closed season for Bajo de Sico (year-round gear restrictions already in place will not be affected)

Alternative 1: No actiondo not extend the seasonal closure of Bajo de Sico.

Alternative 2: (Preferred) Establish a 6 month closure of Bajo de Sico from October 1 to March 31 in order to provide better protection for spawning aggregations of large snappers and groupers as well as coral reef habitat.

Option a: prohibit fishing for all species, including Highly Migratory Species (HMS)

Option b: prohibit fishing for and possession of all species, including HMS

Option c: prohibit fishing for Council managed species

Option d: (Preferred) prohibit fishing for and possession of Council managed species

Alternative 3: Establish a 6 month closure of Bajo de Sico from December 1 to May 31 in order to provide better protection for spawning aggregations of large snappers and groupers as well as coral reef habitat.

Option a: prohibit fishing for all species, including HMS

Option b: prohibit fishing for and possession of all species, including HMS

Option c: prohibit fishing for Council managed species

Option d: prohibit fishing for and possession of Council managed species

Alternative 4: Extend closure of Bajo de Sico to 12 months in order to provide full protection for spawning aggregations of large snappers and groupers as well as coral reef habitat.

Option a: prohibit fishing for all species, including HMS

Option b: prohibit fishing for and possession of all species, including HMS

Option c: prohibit fishing for Council managed species

Option d: prohibit fishing for and possession of Council managed species

Action 2: Prohibit anchoring by fishing vessels

Alternative 1: No action—do not prohibit anchoring by fishing vessels

Alternative 2: Prohibit anchoring for six (6 months). The six (6)-month closure will coincide with the closure period chosen in action 1.

Alternative 3: (Preferred) Prohibit anchoring year round.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305 (c) of the Magnuson-Stevens Act, provided the public has been notified of the Council's intent to take final action to address the emergency.

Special Accommodations

These meetings are physically accessible to people with disabilities. For more information or request for sign language interpretation and other auxiliary aids, please contact Mr. Miguel A. Rolon, Executive Director, Caribbean Fishery Management Council, 268 Munoz Rivera Avenue, Suite 1108, San Juan, Puerto Rico 00918-2577; telephone: (787) 766-5926, at least 5 days prior to the meeting date.

Dated: April 3, 2009.
Tracey L. Thompson,
Acting Director, Office of Sustainable Fisheries, National Marine Fisheries Service.

[FR Doc. E9-8006 Filed 4-7-09; 8:45 am]

BILLING CODE 3510-22-S